DEPARTMENT OF ENERGY

Orders Granting Authority To Import and Export Natural Gas, and To Export Liquefied Natural Gas During August 2015

AGENCY: Office of Fossil Energy, Department of Energy.

ACTION: Notice of orders.

| FE Docket Nos.
EMERA ENERGY SERVICES, INC | 15-93-NG
OXY ENERGY CANADA, INC | 15-95-NG
B AND A GLOBAL ENERGY INC | 15-108-NG
TOYOTA MOTOR ENGINEERING & MANUFACTURING NORTH AMERICA | 15-109-NG
PACIFIC GAS AND ELECTRIC COMPANY | 15-112-NG
ENTERPRISE PRODUCTS OPERATING LLC | 15-113-NG
PORT ARTHUR LNG, LLC | 15-53-LNG
CORPUS CHRISTI LIQUEFACTION, LLC | 15-97-LNG

SUMMARY: The Office of Fossil Energy (FE) of the Department of Energy gives notice that during August 2015, it issued orders granting authority to import and export natural gas, and to export liquefied natural gas (LNG). These orders are summarized in the attached appendix and may be found on the FE Web site at http://energy.gov/fe/downloads/listing-doefe-authorizationsorders-issued-2015.

They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 30, 2015.
John A. Anderson,
Director, Office of Oil and Gas Global Security and Supply, Office of Oil and Natural Gas.

Appendix—DOE/FE Orders Granting Import/Export Authorizations
08/13/15 | 15-93-NG | Emera Energy Services, Inc | Order granting blanket authority to import/export natural gas from/to Canada.
08/13/15 | 15-95NG | Oxy Energy Canada, Inc | Order granting blanket authority to import/export natural gas from/to Canada.
08/13/15 | 15-108-NG | B and A Global Energy Inc | Order granting blanket authority to export natural gas to Canada.
08/13/15 | 15-109-NG | Toyota Motor Engineering & Manufacturing North America | Order granting blanket authority to export natural gas to Mexico.
08/20/15 | 15-112-NG | Pacific Gas and Electric Company | Order granting blanket authorization to import natural gas from Canada.
08/20/15 | 15-113-NG | Enterprise Products Operating LLC | Order granting blanket authority to import/export natural gas from/to Canada/Mexico.
08/20/15 | 15-53-LNG | Port Arthur LNG, LLC | Order granting long-term, multi-contract authorization to export LNG by vessel from the proposed Venture Port Arthur LNG Project in Port Arthur, Texas, to Free Trade Agreement nations.
08/27/15 | 15-97-LNG | Corpus Christi Liquefaction, LLC | Order granting long-term, multi-contract authorization to export LNG by vessel from the Corpus Christie LNG Terminal in San Patricio and Nueces Counties, Texas, to Free Trade Agreement nations.

[FR Doc. 2015-25391 Filed 10-5-15; 8:45 am]

BILLING CODE 6450-01-P